DEPARTMENT OF LABOR

Employment and Training Administration

Workforce Investment Act—Small Grassroots Organizations Connecting with the One-Stop Delivery System; Solicitation for Grant Applications

Announcement Type: New—Notice of solicitation for grant applications (SGA).

Funding Opportunity Number: SGA/DFA PY-06-11.

Catalog of Federal Domestic Assistance CFDA Number: 17.261.

Key Dates: Applications are due by May 8, 2007.

SUMMARY: The Employment and Training Administration (ETA), U.S. Department of Labor (DOL or the Department), announces the availability of $3,000,000 in grant funds for eligible “grassroots” organizations with the ability to connect to the local One-Stop Delivery System. The term “grassroots” is defined under the Eligibility Criteria.

SUPPLEMENTARY INFORMATION: This solicitation provides background information on the Small Grassroots Organizations Connecting with the One-Stop Delivery System and critical elements required of projects funded under the solicitation. It also describes the application submission requirements, the process that eligible applicants must use to apply for funds covered by this solicitation, and how grantees will be selected. This announcement consists of eight parts.

• Part I provides background information on the Workforce Investment Act—Small Grassroots Organizations Connecting with the One-Stop Delivery System funding opportunity.

• Part II describes the size and nature of the anticipated awards.

• Part III describes the qualifications of an eligible applicant.

• Part IV provides information on the application and submission process.

• Part V explains the review process and rating criteria that will be used to evaluate applications.

• Part VI provides award administration information.

• Part VII contains ETA contact information.

• Part VIII contains other information for applicants.

Part I. Funding Opportunity Description

1. Background

The Workforce Investment Act (WIA) reformed numerous federal job training programs with amendments impacting service delivery under other laws including 29 U.S.C. 49 et seq. the Wagner-Peyser Act, Adult Education and Family Literacy Act, 20 U.S.C. 9201 et seq., and the Rehabilitation Act., 29 U.S.C. 701 et seq. WIA created a system of One-Stop Career Centers across the country. The intention of the One-Stop Career Center system is to establish a network of programs and providers in co-located and integrated settings that are accessible for individuals and businesses alike. There are currently over 1,800 comprehensive One-Stop Career Centers and over 1,400 affiliated One-Stop Career Centers across the United States. A number of other Federal programs are also identified as required partners in the One-Stop Career Center system to provide a comprehensive set of services for all Americans to access the information and resources available to help achieve their career goals. The WIA also established state and local Workforce Investment Boards focused on strategic planning, policy development, and oversight of the workforce investment system, and accorded significant authority to the nation's Governors and local chief elected officials to further implement innovative and comprehensive delivery systems. The vision, goals and objectives for workforce investment under the WIA decentralized system are fully described in the state strategic plan required under Section 112 of the statute. This state strategic workforce investment plan and the operational experience gained by all the partners to date in implementing the WIA-instituted reforms help identify the important “unmet needs” and latent opportunities to expand access to One-Stop Career Center systems by all the population segments within the local labor market.

States are currently developing their Strategic Plans for years three and four of the current five-year planning cycle. Plans from states with new governors are due to the Department by June 30, 2007 and plans from the other states are due by May 1, 2007.

2. Administration Strategy

Engagement of Faith-Based and Community Organizations Under the Workforce Investment Act

On January 29, 2001, President George W. Bush issued Executive Order 13198, creating the Office for Faith-Based and Community Initiatives in the White House and centers for faith-based and community initiatives (CFBCI) in the federal Departments of Labor (DOL), Health and Human Services (HHS), Housing and Urban Development (HUD), Education (ED), and Justice (DOJ). President Bush charged the departmental centers with identifying statutory, regulatory, and bureaucratic barriers that stand in the way of the participation of effective faith-based and community organizations in providing human services, and to ensure, consistent with the law, that these organizations have equal opportunity to compete for federal funding and other support.

In early 2002, the CFBCI and ETA developed and issued an SGA to engage States, intermediary and grassroots organizations in workforce system-building. Further, ETA ensured that all solicitations were designed to include faith-based and community organizations as potential providers to deliver services and to strengthen their partnerships with the One-Stop Career Center system, while providing additional points of entry for customers into that system.

These solicitations proceeded from an ETA-CFBCI mutual premise that the involvement of faith-based and community organizations can both complement and supplement the efforts of local workforce investment systems in reaching our citizens and meeting their training, job and career-support needs. The 2002 grants realized from that initial competition embodied the Department's principal strategy for implementing the Executive Order by creating new avenues through which qualified organizations could participate more fully under the WIA, while applying their particular strengths and assets in providing customer services.

ETA and CFBCI continued with grant-making in 2003-2006 to enlist new “grassroots” organizations into workforce system-building; the new 2007 solicitation represents our continued commitment to bring additional organizations to that task, drawing on “lessons learned” during the last five years of grant operation. This new solicitation also incorporates several “promising practices” introduced by other ETA grantees during the same period. These lessons include the understanding that “grassroots” FBCOs provide personalized and holistic support to individuals while increasing their skill levels or seeking employment. FBCOs have close cultural connections to their communities and can help historically underserved populations access One-Stop services. The new solicitation also places significant emphasis on performance outcomes and documenting and quantifying the additional value services offered by the grassroots organization to the One-Stop Career Center system. Through this competition, ETA seeks to ensure that an important WIA tenet, the development of a talented American workforce pool through universal access to the programs and services offered under WIA, is further rooted in the customer-responsive delivery systems already established by the Governors, local elected officials and local Workforce Investment Boards. ETA also reaffirms its continuing commitment to those customer-focused reforms instituted by state and local governments, which help Americans access the tools they need to manage their careers throughout their life with information and high quality services, and to help U.S. companies find skilled workers to remain competitive. Many faith-based and community organizations offer unique services and support including networks for full partnership in mutual system-building endeavors; they are trusted institutions within many poor neighborhoods; and they provide access to a large number of volunteers who bring the transformational power of personal relationships to the provision of services, and a sustained allegiance to the well-being and self-sufficiency of the participants they serve. Through their daily work and specific programs, these organizations share common purposes with government such as the attainment of occupational skills, and the entry and retention of all our citizens in good-paying jobs. Through this solicitation, ETA and CFBCI strive to leverage the programs, resources and committed staff of “grassroots” faith-based and community organizations into the workforce investment strategies already embodied in state and local strategic plans.

3. Project Objectives

The selected grantees will be expected to achieve the following objectives:

• Help unemployed or underemployed individuals with barriers to employment through (1) providing services that complement and support those offered by the identified One Stop Career Center, such as pre- and post-job placement mentoring, intensive case management, job retention support, life skills training and employability skills training; (2) connecting individuals with the existing training, apprenticeship and job opportunities of the One-Stop Career Center or other local affiliates of DOL's national business partners; and (3) providing post-job placement services to increase job retention.

• Expand the access of faith-based and community-based organizations' clients and customers to the training, job and career services offered by the local One-Stop Career Centers;

• Leverage volunteer hours and in-kind donations to maximize DOL's investment in grants to “grassroots” FBCOs;

• Thoroughly document the impact and outcomes of these grant investments through quarterly and final reporting; and

• Establish methods and mechanisms to ensure sustainability of these partnerships and participation levels beyond the life of the grant.

Part II. Award Information

1. Award Amount and Other Information

ETA has identified $3,000,000 for this solicitation. The agency expects to award approximately 40 grants. The grant amount for each “grassroots” organization will range between $50,000-$75,000.

2. Period of Performance

The period of performance will be 18 months from the date of grant execution. This performance period shall include all necessary implementation and start-up activities as well as participant follow-up for performance outcomes and grant closeout activities. A timeline clearly detailing these required grant activities and their expected completion dates must be included in the grant application. If applied for and with significant justification, ETA may elect to exercise its option to award no-cost extensions to these grants for an additional period at its own discretion, based on the success of the program and other relevant factors. ETA reserves the right to provide additional funding in future years based on availability of funds and grantee performance (derived from the timely submission of required quarterly reports and completion of a limited application).

3. Anticipated Announcement and Award Dates

Announcement of these awards is expected to occur by June 30, 2007.

Part III. Eligibility Information

1. Eligible Applicants

For purposes of this announcement, eligible “grassroots” organizations must be non-profit organizations that:

• Have an Internal Revenue Service 501(c)(3) status at the time of application submission.

• Have social services as a major part of their mission.

• Are headquartered in the local community to which they provide these services.

• Have a social services budget of $500,000 or less.

Please Note: A social services budget includes all costs related to the provision of social services (including salaries and expenses). These services include those provided by a non-profit organization for the welfare of a person or community. Such services can include, but are not limited to housing, workforce development, employment readiness, education, child protection, food, clothing, shelter and health care.

If an applicant is an affiliate of a larger organization, to be eligible, the applicant must be located in local community to which they provide services, must have its own Federal tax identification number, have direct control of its funds and operates independently from the larger organization.

2. Matching Funds and Leveraged Resources

This solicitation does not require grantees to share costs or provide matching funds; however, applicants are encouraged to leverage resources whenever possible and the potential sustainability of the project will be considered in the evaluation of proposals.

Please note: If the proposal includes integrating WIA or other federal funds or includes other leveraged resources, these funds should not be listed on the SF 424 or SF 424A Budget Information Form, but should be described in the budget narrative and in Part II of the proposal.

3. Veterans Priority

This program is subject to the provisions of the “Jobs for Veterans Act,” Public Law 107-288, which provides priority of service to veterans and spouses of certain veterans for the receipt of employment, training, and placement services in any job training program directly funded, in whole or in part, by the Department of Labor. ETA Training and Employment Guidance Letter (TEGL) No. 5-03 (September 16, 2003), available at http://wdr.doleta.gov/directives/corr_doc.cfm?DOCN=1512, provides general guidance on the scope of the veterans priority statute and its effect on current employment and training programs.

4. Other Eligibility Requirements

Distribution Rights. Selected applicants must agree to give ETA the right to use and distribute all materials developed with grant funds such as training models, curriculum, technical assistance products, etc. Materials developed with grant resources are in the public domain; therefore, ETA has the right to use, reuse, modify, and distribute all grant-funded materials and products to any interested party, including broad distribution to the public workforce investment system via the Internet or other means.

Legal rules pertaining to inherently religious activities by organizations that receive Federal financial assistance. The government is generally prohibited from providing direct Federal financial assistance for inherently religious activities. See 29 CFR part 2; subpart D. Grants under this solicitation may not be used for religious instruction, worship, prayer, proselytizing, or other inherently religious activities. (Neutral, non-religious criteria that neither favor nor disfavor religion will be employed in the selection of grant recipients and must be employed by grantees in the selection of sub-recipients. ETA Training and Employment Guidance Letter (TEGL) No. 01-05 (July 6, 2005), available at http://wdr.doleta.gov/directives/corr_doc.cfm?DOCN=2088, provides guidance on amendments to DOL regulations that permit the use, in defined circumstances, of Workforce Investment Act (WIA) Title I financial assistance for training and employment of WIA participants in religious activities.

Part IV. Application and Submission Information

1. Addresses To Request Application Package

This announcement includes all information and links to forms needed to apply for this funding opportunity.

2. Content and Form of Application Submission

The proposal must consist of two (2) separate and distinct parts, Parts I and II. Applications that fail to adhere to the instructions in this section will be considered non-responsive and may not be given further consideration.

Part I of the proposal is the Cost Proposal and must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant shall be considered the authorized representative of the applicant.

All applicants for federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: www.dunandbradstreet.com or call 1-866-705-5711.

• The SF424A Budget Information Form, (available at http://www.doleta.gov/sga/forms.cfm).

• In preparing the Budget Information Form, the applicant must provide a concise narrative explanation to support the request. The budget narrative should break down the budget, and leveraged resources by the project activities specified in the technical proposal and should discuss precisely how the administrative cost support the project goals.

Please Note: If the proposal includes integrating WIA or other federal funds or includes other leveraged resources, these funds should not be listed on the SF 424 or SF 424A Budget Information Form, but should be described in the budget narrative. Applicants that fail to provide a SF 424, SF 424A and/or a budget narrative will be removed from consideration prior to the technical review process. The amount of federal funding requested for the entire period of performance should be shown together on the SF 424 and SF 424A Budget Information Form. Applicants are also encouraged, but not required, to submit OMB Survey N. 1890-0014: Survey on Ensuring Equal Opportunity for Applicants, which can be found at http://www.doleta.gov/sga/forms.cfm.

Please Note: If awarded a grant, two representatives from each grantee organization will be required to attend one orientation conference in the Washington, DC. area. Grant funds may be used for this travel.

Part II of the application is the Technical Proposal. The Technical Proposal will demonstrate the applicant's capabilities to plan and implement the WIA-Small Grassroots Organizations Connecting with the One-Stop Delivery System grant project in accordance with the provisions of this solicitation. It sets forth a strategic plan for the use of awarded funds and establishes measurable goals for increasing organizational participation in the One-Stop Career Center system to serve more fully unemployed or underemployed individuals with barriers to employment. See Part V Applicant Review Information for required elements of the Technical Proposal. The Technical Proposal is limited to eight (8) double-spaced, single-sided, 8.5 inch x 11 inch pages with 12 point text font and one-inch margins. Any pages over the eight page limit will not be reviewed. Please note that applicants should not send letters of commitment, intent or support separately to ETA because incoming mail is tracked through a separate system and will not be attached to the application for review. Except for the discussion of any leveraged resources to address the evaluation criteria, no cost data or reference to prices should be included in the Technical Proposal. The following additional information is required and will not count against the 8 page Technical Proposal limitation:

• The applicant must submit an agreement with, or letter of intent from the Workforce Investment Board/One-Stop Career Center operator that describes the One-Stop Center's firm commitment to entering a formal referral partnership with the applicant. This formal partnership should produce two-way client referrals from the One-Stop Center to the applicant and from the applicant to the One-Stop Center on which the applicant will be required to report. The letter must describe that the One-Stop operator has acknowledged that the applicant organization is complementing the services provided by the One-Stop Career Center. If an agreement with the One-Stop Career Center operator is not included, please provide an explanation of the efforts made to establish this partnership, (the One-Stop operator role is described in section 121 (b) (1) of the Workforce Investment Act.)

• A 1-2 page timeline outlining project activities, including expected start-up, implementation, participant follow-up for performance outcomes, grant closeout and other activities.

Please note That the agreements or letters of intent and timeline are not included in the Technical Proposal eight-page limit.

Applications may be submitted electronically on www.grants.gov or in hard copy via U.S. mail, professional delivery service, or hand delivery. These processes are described in further detail in Section IV (3). Applicants submitting proposals in hard-copy must submit an original signed application (including the SF 424) and one (1) “copy-ready” version, meaning free of bindings, staples or protruding tabs to ease in the reproduction of the proposal by DOL for project reviewers. Applicants submitting proposals in hard-copy are also requested, though not required, to provide an electronic copy of the proposal on CD-ROM.

3. Submission Dates and Times

The closing date for receipt of applications under this announcement is May 8, 2007. Applications must be received at the address below, or electronically received at the Web site below, no later than 4:00 p.m. (Eastern Time), except as identified in the “Late Applications” paragraph below. Applications sent by e-mail, telegram, or facsimile (fax) will not be honored. No exceptions to the mailing and delivery requirements set forth in this notice will be granted.

Mailed applications must be addressed to the U.S. Department of Labor, Employment and Training Administration, Division of Federal Assistance, Attention: Eric Luetkenhaus, Reference SGA/DFA PY 06-11, 200 Constitution Avenue, NW., Room N-4716, Washington, DC 20210. Applicants are advised that mail delivery in the Washington area may be delayed due to mail decontamination procedures. Hand-delivered proposals will be received at the above address.

Applicants may apply online at http://www.grants.gov by the deadline specified above. Any application received after the deadline will not be accepted. For applicants submitting electronic applications via Grants.gov, please note that it may take several days to complete the “Get Started” step to register with Grants.gov. It is strongly recommended that these applicants immediately initiate the registration in order to avoid unexpected delays that could result in the disqualification of their application. If submitted electronically through http://www.grants.gov, applicants should save application documents as a .doc or .pdf file.

Late Applications: Any application received after the exact date and time specified for receipt at the office designated in this notice will not be considered, unless it is received before awards are made, was properly addressed, and: (a) Was sent by U.S. Postal Service registered or certified mail not later than the fifth calendar day before the date specified for receipt of applications, (e.g., an application required to be received by the 20th of the month must be post marked by the 15th of that month) or (b) was sent by professional overnight delivery service, or successfully submitted on Grants.gov to DOL not later than one working day prior to the date specified for receipt of grant applications. It is highly recommended that online submissions be completed one working day prior to the date specified for receipt of applications to ensure that the applicant still has the option to submit by overnight delivery service in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

4. Intergovernmental Review

This funding opportunity is not subject to Executive Order (EO) 12372, “Intergovernmental Review of Federal Programs.”

5. Funding Restrictions

Determinations of allowable costs will be made in accordance with the applicable Federal cost principles, e.g., Non-Profit Organizations—OMB Circular A-122 (2 CFR 230). Prospective grantees should read and become familiar with this Circular. Disallowed costs are those charges to a grant that the grantor agency or its representative determines not to be allowed in accordance with the applicable Federal Cost Principles or other conditions contained in the grant.

Use of Stipends. The provision of stipends to training enrollees for the purposes of wage replacement or supportive services, such as transportation costs, for unemployed or employed workers, is not an allowable cost under this solicitation.

Purchase of Vehicles. The purchase of vehicles is not an allowable cost under this solicitation.

Indirect Costs. As specified in OMB Circular Cost Principles, indirect costs are those that have been incurred for common or joint objectives and cannot be readily identified with a particular cost objective. In order to utilize grant funds for indirect costs incurred, the applicant must obtain an Indirect Cost Rate Agreement with its Federal cognizant agency either before or shortly after the grant award.

Administrative Costs. Under this solicitation, “Small Grassroots Organizations Connecting with the One-Stop Delivery System”, an entity that receives a grant to carry out a project or program may not use more than 10 percent of the amount of the grant to pay administrative costs associated with the program or project. Administrative costs could be both direct and indirect costs, and are defined at 20 CFR 667.220. Administrative costs do not need to be identified separately from program costs on the SF 424A Budget Information Form. They should be discussed in the budget narrative and tracked through the grantee's accounting system. To claim any administrative costs that are also indirect costs, the applicant must obtain an indirect cost rate agreement as described above.

6. Other Submission Requirements

Withdrawal of Applications. Applications may be withdrawn by written notice or telegram (including Mailgram) received at any time before an award is made. Applications may be withdrawn in person by the applicant or by an authorized representative thereof, if the representative signs a receipt for the proposal.

Part V. Application Review Information

1. Evaluation Criteria

This section identifies and describes the criteria that will be used to evaluate grant proposals from Grassroots Organizations as defined in Section III (Eligibility Criteria). Below are the required elements of the Technical Proposal and the rating criteria that reviewers will use to evaluate the proposal under this SGA. A. Organizational History and Description of Community Need (15 points); B. Client Services, Partnerships with the One-Stop Career Center, and Timeline (50 points); C. Description of Outcomes and Tracking Methodology (30 points); D. Description of Sustainability (5 Points).

A. Organizational History and Description of Community Need (15 points)

1. Briefly, describe the history of how your organization has provided social or workforce development services to meet community needs, and include a brief listing of services provided. Please describe the community need that this grant will address. Please describe what populations you will serve. Populations can include but are not limited to such groups as: ex-offenders, immigrants, limited English-speakers, veterans, victims of violent crime, single working mothers, homeless persons, individuals living in specific low-income area and individuals with disabilities. (Census and other community data can be useful for determining the population.) Please describe what services your organization will provide to address the needs of this population using this grant funding. Services must include such activities as: pre- and post-job placement mentoring, intensive case management, job retention support, life skills training, and employability skills training and any other services as appropriate. Services must include some form of job retention support.

Scoring of this criterion will be based on the following.

1. Does the applicant demonstrate that it has a history of providing social and/or workforce development services to meet community needs? Were the target populations for this grant described adequately? Does the organization fully demonstrate that the services they will provide such as pre- and post-job placement mentoring, intensive case management, job retention support, life skills training, and employability skills training services will address the community need and the needs of the target population? (15 points)

B. Client Services, Partnership With the One-Stop and Timeline (50 points)

1. How Your Organization Will Serve Clients. The applicant must describe how your organization will provide services under this grant, including post-job placement services. Please include a description of the specific program, curricula or method you will use. Describe the staff/volunteer positions that will provide services under this grant.

2. Partnership With the One-Stop Career Center. Please describe how you plan to coordinate your services with the existing job training and employment opportunities at the One-Stop Career Center to help the target population you described above receive services, enter employment, be retained in employment and see wage increases. Please also include if you will be connecting your customers with specific apprenticeship programs, business partners or training opportunities offered by or through the One-Stop Career Center. If you have not previously worked with a One-Stop Career Center, please describe actions you have taken to develop a relationship with a One-Stop Career Center. Information on the agreement with the Workforce Investment Board/One-Stop Career Center operator can be found in Part IV (2) of this solicitation.

3. Timeline. The applicant must attach a timeline of major, measurable tasks and activities to be undertaken, including those tasks that will be undertaken to create effective partnership with the One-Stop Career Center. (The timeline must be limited to 2 pages and does not count towards the 8 page limit.)

Scoring of this criterion will be based on the following.

1. Does the applicant adequately describe the methodology for providing services such as pre- and post-job placement mentoring, and employability skills training? Does the applicant adequately describe post-job placement services? Does a description of the methodology demonstrate that the organization will be successful in helping the target population described? (15 points)

2. Does the applicant demonstrate its ability to connect its clients with the services of the One-Stop Career Center and successfully partner with the One-Stop? (10 points) Does the applicant present evidence of a firm commitment from the One-Stop Career Center system to create a formal referral partnership with the applicant as described above (e.g., a signed letter of intent from the Local Workforce Investment Board or other One-Stop delivery system principals)? (10 points)

3. Does the applicant fully demonstrate that the activities and tasks presented on the timeline are achievable given available resources? (15 points)

C. Description of Outcomes and Tracking Methodology (30 points)

1. The applicant must identify how many participants will be served by the grant funds. The applicant must also describe the measurable outcomes that the program participants will achieve over the life of this grant. Measurable outcomes must include how many participants will be placed in post-secondary education or advanced training; number of participants placed in a job; average hourly wages at the time of job placement; and of the participants placed in a job since the beginning of the grant, how many were continuously employed for 3 and 6 months (retention). Outcomes can also include other goals submitted with the grant application or additional goals developed for the program.

2. Describe what mechanisms you will develop, in partnership with the One-Stop Career Center system, to track your success in achieving proposed goals and outcomes, (i.e. performance measures). Describe any other methods you will use for evaluating your project's success.

Scoring of this criterion will be based on the following.

1. Does the applicant provide tangible outcome measures and goals that allow both the applicant and DOL to gauge the impact of the activities on meeting the community need? Do these goals include tracking employment outcomes and retention outcomes for those served? Does the applicant fully demonstrate that the number of people they plan to serve is reasonable? (15 points)

2. Does the applicant fully demonstrate that it developed, in conjunction with the One-Stop, mechanisms to track the goals and outcomes of the grant? (15 points)

D. Description of Sustainability (5 Points)

1. Describe how the applicant will work with the One-Stop and other community partners to ensure a sustainable relationship after the expiration of the grant. Describe efforts to leverage other federal, state, local or private funds to support the project during or after the expiration of the grant.

Scoring of this criterion will be based on the following.

2. Does the applicant demonstrate the potential to have a commitment from the One-Stop Career Center and other community partners to continue their relationship after the expiration of the grant? Does the applicant fully describe a development plan that includes diverse funding sources for the future? (5 points)

2. Review and Selection Process

A technical review panel will make a careful evaluation of applications against the rating criteria. The ranked scores will serve as the primary basis for selection of applications for funding, in conjunction with other factors such as geographic balance, availability of funds and what is most advantageous to the Government. The grant officer reserves the right to award without negotiation. The criteria in Part V, Section 1 will serve as the basis upon which submitted applications will be evaluated. The panel results are advisory in nature and not binding on the Grant Officer, and the Grant Officer may consider any information that comes to his or her attention. Should a grant be awarded without negotiations, the award will be based on the applicant's signature on the SF 424, which constitutes a binding offer as signed by the applicant (including electronic signature via E-Authentication on www.grants.gov).

Part VI. Award Administrative Information

1. Award Notices

All award notifications will be posted on the ETA homepage at http://www.doleta.gov.

2. Administrative and National Policy Requirements—Administrative Program Requirements

All grantees will be subject to all applicable Federal laws (including provisions in appropriations law), regulations, and the applicable Office of Management and Budget (OMB) Circulars. The applicants selected under the SGA will be subject to the following administrative standards and provisions, if applicable:

• The Workforce Investment Act of 1998, U.S.C. 2801 et seq.

• Workforce Investment Act Regulation codified at (20 CFR pts. 660-671).

• Exec. Order No. 13198, Agency responsibilities with respect to Faith-Based and Community Initiatives, 66 FR 8497 (Jan. 31, 2001).

• Training and Employment Guidance Letter 17-01, Incorporating and Utilizing Grassroots, Community-Based Organizations Including Faith-Based Organizations in Workforce Investment Activities and Programs (2002).

• Exec. Order No. 13279, Equal Protection of the Laws for Faith-Based and Community Organizations, 67 FR 77141 (Dec. 16, 2002).

• New equal treatment regulations (29 CFR Part 2, Subpart D) and (ETA Trai ning and Employment Guidance Letter (TEGL) No. 01-05 (July 6, 2005), available at http://wdr.doleta.gov/directives/corr_doc.cfm?DOCN=2088).

• Workforce Investment Act (WIA) nondiscrimination and programmatic regulations (29 CFR 37.6(f); 20 CFR 667.266 and 667.275).

• Non-Profit Organizations—Office of Management and Budget (OMB Circulars A-122 (Cost Principles) and 29 CFR Part 95 (Administrative Requirements).

• All entities must comply with 29 CFR Parts 93 and 98, and where applicable, 29 CFR Parts 96 and 99.

• In accordance with Section 18 of the Lobbying Disclosure Act of 1995, Public Law 104-65 (2 U.S.C. 1611) non-profit entities incorporated under Internal Revenue Code Section 501(c)(4) that engage in lobbying activities will not be eligible for the receipt of Federal funds and grants.

• 29 CFR Part 2, subpart D—Equal Treatment in Department of Labor Programs for Religious Organizations; Protection of Religious Liberty of Department of Labor Social Service Providers and Beneficiaries.

• 29 CFR part 30—Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs and Activities Receiving or Benefiting from Federal Financial Assistance.

• 29 CFR part 33—Enforcement of Nondiscrimination on the Basis of Handicap in Programs or Activities Conducted by the Department of Labor.

• 29 CFR part 35—Nondiscrimination on the Basis of Age in Programs or Activities Receiving Federal Financial Assistance from the Department of Labor.

• 29 CFR part 36—Nondiscrimination on the Basis of Sex in Education Programs or Activities Receiving Federal Financial Assistance.

• 29 CFR part 37—Implementation of the Nondiscrimination and Equal Opportunity Provisions of the Workforce Investment Act of 1998 (WIA).

Note: Except as specifically provided in this notice, ETA's acceptance of a proposal and award of Federal funds to sponsor any program(s) does not provide a waiver of any grant requirement and/or procedure. For example, the OMB Circulars require that an entity's procurement procedures must ensure that all procurement transactions are conducted, as much as practical, to provide open and free competition. If a proposal identifies a specific entity to provide services, the ETA's award does not provide the justifications or basis to sole-source the procurement, i.e., avoid open and free competition, unless the activity is regarded as the primary work of an official partner to the application.

Evaluation Requirements

DOL may require that the program or project participate in an evaluation of overall “Small Grassroots Organizations Connecting with the One-Stop Delivery System” performance. To measure the impact of grants funded under this SGA, DOL may arrange for or conduct an independent evaluation of the outcomes and benefits of the projects. Grantees must agree to make records on participants, employers, and funding available and to provide access to program operating personnel and to participants, as specified by the evaluator(s) under the direction of ETA, including after the expiration date of the grant.

Reporting Requirements

As a condition of participation in the “Small Grassroots Organizations Connecting with the One-Stop Delivery System” project, successful applicants will be required to submit performance information as well as Quarterly Financial Reports, Progress Reports and Final Reports.

Performance Requirements

“Small Grassroots Organization Connecting with the One-Stop Delivery System” grantees are required to report outcomes for the DOL common performance measures, which measure entry into employment, retention in employment, and earnings. Additional information on ETA's common measures policy can be found in Training Employment Guidance Letter No. 17-05, Common Measures Policy for the Employment and Training Administration's (ETA) Performance Accountability System and Related Performance Issues.

Quarterly Financial Reports

A Quarterly Financial Status Report (SF 269) is required until such time as all funds have been expended or the grant period has expired. Quarterly financial reports are due 30 days after the end of each calendar year quarter. Grantees must use ETA's Online Electronic Reporting System.

Quarterly Progress Reports

The grantee must submit a quarterly data and narrative progress report to the designated Federal Project Officer within 30 days after the end of each calendar year quarter. Copies are to be submitted electronically providing a detailed account of activities undertaken during that quarter. The Department may require additional data elements to be collected and reported on either a regular basis or special request basis. Grantees must agree to meet the Department's reporting requirements. Reports must include the following information for the grassroots grantees.

• The number of participants served per quarter (new/intake and total).

• The number of One-Stop Career Center clients referred to the grantee.

• Number of grantee participants referred to the One-Stop.

• The total number of volunteer hours committed to the grant program.

• Number of participants placed in post-secondary education or advanced training.

• Number of participants placed in a job.

• Average hourly wages at the time of job placement.

• Of the participants placed in a job since the beginning of the grant, how many were continuously employed for 3 months.

• Of the participants placed in a job since the beginning of the grant, how many were continuously employed for 6 months.

• Other goals submitted with the grant application or additional goals developed for the program.

• Demographic information.

Final Report

A draft final report must be submitted no later than 60 days prior to the expiration date of the grant. This report must summarize project activities, employment outcomes, and related results of the project, and should thoroughly document the project solution approach. After responding to ETA's questions and comments on the draft report, three copies of the final report must be submitted no later than the grant expiration date. Grantees must agree to use a designated format specified by the Department to prepare the final report.

Part VII. Agency Contacts

Any technical questions regarding this SGA should be faxed to Linda Forman at DOL, Fax number (202) 693-2705 (not a toll-free number). You must specifically address your fax to the attention of Linda Forman and should include the following: SGA/DFA PY 06-11, a contact name, fax, and telephone number.

FOR FURTHER INFORMATION CONTACT: Linda Forman, at (202) 693-3416 (not a toll-free number). This announcement is also being made available on http://www.grants.gov.

Part VIII. Other Information

OMB Information Collection No. 1205-0458

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, attention: OMB Desk Officer for ETA, Office of Management and Budget, Room 10235, Washington, DC 20503. PLEASE DO NOT RETURN YOUR COMPLETED APPLICATION TO THE OMB. SEND IT TO THE ADDRESS PROVIDED IN PART IV (3) OF THIS SOLICITATION. This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Resources

DOL maintains a number of Web-based resources that may be of assistance to applicants. The Web page for the Department's Center for Faith-Based & Community Initiatives (http://www.dol.gov/cfbci) is a valuable source of background on this initiative. America's Service Locator (www.servicelocator.org) provides a directory of our nation's One-Stop Career Centers. ETA maintains a Web page http://www.servicelocator.org/wibcontacts), which contains contact information for the state and local Workforce Investment Boards. Applicants are encouraged to review “Understanding the Department of Labor Solicitation for Grant Applications and How to Write an Effective Proposal”, which can be found at (http://www/dol.gov/cfbci/sgabrochure.htm). Applicants may also wish to review the current two-year Workforce Investment Act plan for the state in which they are located. Access to these plans may be found at http://www.doleta.gov.gov/usworkforce/WIA/planstatus.cfm. For a basic understanding of the grants process and basic responsibilities of receiving Federal grant support, please see “Guidance for Faith-Based and Community Organizations on Partnering with the Federal Government”, found at (www.fbci.gov).

Signed at Washington, DC, this 30th day of March 2007.
Eric D. Luetkenhaus,
Grant Officer, Employment and Training Administration.

[FR Doc. E7-6306 Filed 4-4-07; 8:45 am]

BILLING CODE 4510-FN-P